TENNESSEE VALLEY AUTHORITY

Agency Information Collection Activities: Proposed Collection; Comment Request

AGENCY: Tennessee Valley Authority.

ACTION: 60-Day notice of submission of information collection approval and request for comments.

SUMMARY: The proposed information collection described below will be submitted to the Office of Management and Budget (OMB) for review, as required by the Paperwork Reduction Act of 1995 (44 U.S.C. chapter 35, as amended). The Tennessee Valley Authority is soliciting public comments on this proposed collection as provided by 5 CFR 1320.8(d)(1).

DATES: Comments should be sent to the Agency Clearance Officer no later than October 26, 2015.

ADDRESSES: Requests for information, including copies of the information collection proposed and supporting documentation, should be directed to the Agency Clearance Officer: Philip D. Propes, Tennessee Valley Authority, 1101 Market Street (SP-5S-108), Chattanooga, Tennessee 37402-2801; (423) 751-8593.

SUPPLEMENTARY INFORMATION:

Type of Request: Regular submission: New collection.

Title of Information Collection: TVA Recreation User Survey.

Frequency of Use: As funding is available.

Type of Affected Public: Individuals or households.

Small Businesses or Organizations Affected: No.

Federal Budget Functional Category Code: 271.

Estimated Number of Annual Responses: 3000.

Estimated Total Annual Burden Hours: 1000.0.

Estimated Average Burden Hours Per Response: .20.

Need For and Use of Information: TVA will contract with the University of Tennessee to Survey by mail and in person recreation users on the TVA reservoir system to determine estimates for the numbers annual recreation visits and associated economic impacts from the recreation activities on the reservoir system.

Philip D. Propes,
Director, Enterprise Information Security and Policy.

[FR Doc. 2015-20847 Filed 8-25-15; 8:45 am]

BILLING CODE 8120-08-P